DEPARTMENT OF LABOR

Veterans' Employment and Training Service; Proposed Information Collection Request Submitted for Public Comment and Recommendations; Federal Contractor Veterans' Employment Report VETS-100

AGENCY: Veterans' Employment and Training Service (VETS), Labor.

ACTION: Notice.

SUMMARY: The Department of Labor, as part of its continuing effort to reduce paperwork and respondent burden, conducts a preclearance consultation program to provide the general public and Federal agencies with an opportunity to comment on proposed and/or continuing collections of information in accordance with The Paperwork Reduction Act of 1995 (PRA95) (44 U.S.C. 3506 C(2)(A)). This program helps to ensure that requested data can be provided in the desired format, reporting burden (time and financial resources) is minimized, collection instruments are clearly understood, and the impact of collection requirements on respondents can be properly assessed. Currently the Veterans' Employment and Training Service (VETS) is soliciting comments concerning the proposed information collection request for the VETS-100 Form.

DATES: Comments are to be submitted by January 13, 2003.

ADDRESSES: Comments are to be submitted to the Veterans' Employment and Training Service, U.S. Department of Labor, Room S-1316, 200 Constitution Ave., NW., Washington, DC 20210, telephone (202) 693-4711. Written comments limited to 10 pages or fewer may also be transmitted be facsimile to (202) 693-4755. Receipt of submissions, whether by U.S. mail, e-mail or FAX transmittal, will not be acknowledged; however, the sender may request confirmation that a submission has been received, by telephoning VETS at (202) 693-4711.

FOR FURTHER INFORMATION CONTACT: Contact Norman G. Lance, Division of Investigation and Compliance, Veterans' Employment and Training Service, U.S. Department of Labor, Room S-1316, 200 Constitution Ave., NW., Washington, DC 20210, telephone: (202) 693-4731 (Voice) or (800) 670-7008 (TTY/TDD). Copies of the referenced information collection request are available for inspection and copying through VETS and will be mailed to persons who request copies by telephoning Ms. Lynne McGrail at (202) 693-4726.

SUPPLEMENTARY INFORMATION:

I. Background

The Federal Contractor Veterans employment Report VETS-100 is administered by the U.S. Department of Labor, is used to facilitate Federal contractor and subcontractor reporting of their employment and new hiring activity. Title 38 U.S.C. 4212(d) requires the collection of information from entities holding contracts of $25,000 or more with Federal Departments or agencies to report annually on (a) the number of current employees in each job category and at each hiring location who are special disabled veterans, the number who are veterans of the Vietnam era, and the number who are other protected veterans who served on active duty during a war or a campaign or expedition for which a campaign badge has been authorized, and newly separated veterans; (b) the total number of employees hired during the report period and of those, the number of special disabled, the number who are veterans of the Vietnam era, and the number who are other veterans; and the maximum and minimum number of employees employed by the contractor at each hiring location.

VETS is requesting this extension to ensure that an OMB cleared and approved form is available for the collection of the VETS-100 Reports for September 2003. Although there is legislation which, upon implementation, will change a number of requirements for the submission of the VETS-100 report, the legislation does not take effect until 12 months following enactment of the legislation, will therefore, not effect the submission of the VETS-100 report for the 2003 collection. This extension will bring the VETS-100 Form into compliance with legislative mandates.

II. Desired Focus of Comments

Currently VETS is soliciting comments concerning the proposed information collection request for the Federal Contractor Veterans' Employment Report VETS-100. The Department of Labor is particularly interested in comments which:

• Evaluate whether the proposed collection of information is necessary for the proper performance of the functions of the agency, including whether the information will have practical utility;

• Evaluate the accuracy of the agency's estimate of the burden of the proposed collection of information.

• Enhance the quality, utility, and clarity of the information to be collected; and

• Minimize the burden of the collection of information on those who are to respond, including through the use of appropriate automated, electronic, mechanical, or other technological collection techniques or other forms of information technology, e.g., permitting electronic submissions of responses.

III. Current Actions

This notice requests an extension of the current Office of Management and Budget approval of the paperwork requirements for VETS-100 Form.

Type of Review: Extension.

Atency: Veterans' Employment and Training Service.

Title: VETS-100 Form.

OMB Number: 1293-0005.

Affected Public: Business or other for-profit institutions and not-for-profit institutions.

Total Respondents: 194,580.

Average Time per Response: 45 minutes.

Total Burden Hours: 97,290 hours.

Total Annualized Capital/Startup costs: $0.

Total Initial Annual Costs: $0.

Comments submitted in response to this notice will be summarized and included in the request for the Office of Management and Budget approval of the information collection request. Comments will become a matter of public record.

Dated: November 5, 2002.
Frederico Juarbe Jr.,
Assistant Secretary, Veterans' Employment and Training Service.

BILLING CODE 4510-79-P

[FR Doc. 02-28647 Filed 11-8-02; 8:45 am]

BILLING CODE 4510-79-C